SMALL BUSINESS ADMINISTRATION

[Declaration of Disaster #3370]

State of Texas

Bee and Maverick Counties and the contiguous counties of Dimmit, Goliad, Karnes, Kinney, Live Oak, Refugio, San Patricio, Uvalde, Webb and Zavala in the State of Texas constitute a disaster area as a result of severe storms and flooding that occurred from August 28 through September 14, 2001. Applications for loans for physical damage may be filed until the close of business on December 17, 2001 and for economic injury until the close of business on July 17, 2002 at the address listed below or other locally announced locations: U.S. Small Business Administration, Disaster Area 3 Office, 4400 Amon Carter Blvd., Suite 102, Ft. Worth, TX 76155.

The interest rates are:

For Physical Damage:
Homeowners with credit available elsewhere | 6.750%
Homeowners without credit available elsewhere | 3.375
Businesses with credit available elsewhere | 8.000
Businesses and non-profit organizations without credit available elsewhere | 4.000
Others (including non-profit organizations) with credit available elsewhere | 7.125
For Economic Injury:
Businesses and small agricultural cooperatives without credit available elsewhere | 4.000

The number assigned to this disaster for physical damage is 337011 and for economic injury is 9M9600.

(Catalog of Federal Domestic Assistance Program Nos. 59002 and 59008).

Dated: October 17, 2001.
John Whitmore,
Acting Administrator.

[FR Doc. 01-26670 Filed 10-22-01; 8:45 am]

BILLING CODE 8025-01-P